ENVIRONMENTAL PROTECTION AGENCY

[EPA-HQ-OAR-2003-0162; FRL-8949-3]

Agency Information Collection Activities; Submission to OMB for Review and Approval; Comment Request; Information Collection Request for Proposed Regional Haze Regulations; EPA ICR No. 1813.07, OMB Control No. 2060-0412

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before September 25, 2009.

ADDRESSES: Submit your comments, referencing Docket ID No. EPA-HQ-OAR-2003-0162, to (1) EPA online using http://www.regulations.gov (our preferred method), by e-mail: docket.oeca@epa.gov, or by mail to: EPA Docket Center, Agency Information Collection Request Activities: Proposed Collection and Comment Request for the Regional Haze Regulations Docket, Docket ID No. EPA-HQ-OAR-2003-0162, Environmental Protection Agency, Air and Radiation Docket and Information Center, Mailcode: 28221T, 1200 Pennsylvania Ave., NW., Washington, DC 20460, and (2) OMB by mail to: Office of Information and Regulatory Affairs, Office of Management and Budget OMB, Attention: Desk Office for EPA, 725 17th Street, NW., Washington, DC 20503.

FOR FURTHER INFORMATION CONTACT: Mr. Todd Hawes, Air Quality Policy Division, Office of Air Quality Planning and Standards, (C539-04), Environmental Protection Agency, Research Triangle Park, North Carolina 27711; telephone number: (919) 541-5591; fax number: (919) 541-0824; e-mail address: hawes.todd@epa.gov.

SUPPLEMENTARY INFORMATION: EPA has submitted the following ICR to OMB for review and approval according to the procedures prescribed in 5 CFR 1320.12. On May 8, 2009 (74 FR 21680), EPA sought comments on this ICR pursuant to 5 CFR 1320.8(d). EPA received no comments during the comment period. Any additional comments on this ICR should be submitted to EPA and OMB within 30 days of this notice.

EPA has established a public docket for this ICR under Docket ID No. EPA-HQ-OAR-2003-0162, which is available for online viewing at http://www.regulations.gov, or in person at the Air Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Proposed Regional Haze Regulations (Renewal).

ICR numbers: EPA ICR No. 1813.07, OMB Control No. 2060-0412.

ICR status: This ICR is scheduled to expire on October 31, 2009. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: This ICR is for activities related to the implementation of EPA's 1999 regional haze rule for the time period between October 31, 2009, and October 30, 2012, and renews the previous ICR. The regional haze rule, as authorized by sections 169A and 169B of the Clean Air Act (CAA), requires States to develop implementation plans to protect visibility in 156 Federally-protected Class I areas. Tribes may choose to develop implementation plans. For this time period, States will be completing their implementation plans to comply with the rule. Before any agency, department, or instrumentality of the Federal government engages in, supports in any way, provides financial assistance for, licenses, permits, approves any activity, that agency has the affirmative responsibility to ensure that such action conforms to the State Implementation Plan (SIP) required under the regional haze rule. Section 176(c) of the CAA (42 U.S.C. 7401 et seq.) require that all Federal actions conform with the SIP requirements. Depending on the type of action, the Federal entities must collect information themselves, hire consultants to collect the information or require applicants/sponsors of the Federal action to provide the information.

Burden Statement: The annual public reporting and recordkeeping burden for this collection of information is estimated to average 37 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 859.

Frequency of response: Annual.

Estimated total average number of responses for each respondent: 1.

Estimated total annual burden hours: 31,841 hours.

Estimated total annual costs: $1,880,000, which is comprised of labor costs exclusively. This includes $0 for both capital investment and maintenance and operational costs.

Changes in the Estimates. There are only minor revisions to the cost estimates since the last renewal of this ICR (July 11, 2006; 71 FR 39104). The last collection request anticipated the program progressing from the planning stages to implementation. That transition has been somewhat delayed as most States were late in getting their implementation plans submitted by the December 2007 deadline. Also, the decision by the U.S. Court of Appeals for the DC Circuit to both vacate (on July 11, 2008) and subsequently remand (on December 23, 2008) the Clean Air Interstate Rule has added much uncertainty to the implementation phase of the program. Consequently, the amount of effort anticipated in July 2006 remains the same today, and burden estimates are essentially unchanged, except for revised labor and wage rates using 2007 cost estimates. Also, in 2006, it was estimated that one Tribe would submit a SIP; however no Tribes elected to submit SIPs and the number of respondents has been reduced by one.

Dated: August 20, 2009.
John Moses,
Director, Collection of Strategies Division.

[FR Doc. E9-20600 Filed 8-25-09; 8:45 am]

BILLING CODE 6560-50-P